DEPARTMENT OF THE INTERIOR

National Park Service

[N6924; NPS-WASO-NAGPRA-NPS0041997; PPWOCRADN0-PCU00RP14.R50000]

Notice of Intended Repatriation: Western Washington University Archaeological Repository, Department of Anthropology, Bellingham, WA

AGENCY: National Park Service, Interior.

ACTION: Notice.

SUMMARY: In accordance with the Native American Graves Protection and Repatriation Act (NAGPRA), the Western Washington University Archaeological Repository (WWUAR), intends to repatriate certain cultural items that meet the definition of sacred objects/objects of cultural patrimony and that have a cultural affiliation with the Indian Tribes or Native Hawaiian organizations in this notice.

DATES: Repatriation of the cultural items in this notice may occur on or after March 13, 2026.

ADDRESSES: Send additional, written requests for repatriation of the cultural items in this notice to Dr. Judith Pine, Western Washington University, Department of Anthropology, Arntzen Hall 340, 516 High Street, Bellingham, WA 98225, email pinej@wwu.edu.

SUPPLEMENTARY INFORMATION: This notice is published as part of the National Park Service's administrative responsibilities under NAGPRA. The determinations in this notice are the sole responsibility of the WWUAR, and additional information on the determinations in this notice, including the results of consultation, can be found in the summary or related records. The National Park Service is not responsible for the determinations in this notice.

Abstract of Information Available

A total of 12,556 cultural items have been requested for repatriation. The 12,556 sacred objects/objects of cultural patrimony are lithic bifaces, scrapers, choppers, hammerstones, adzes, cores, flakes, and debitage. This collection, known as the Woodhaven Olcott Collection, was derived from an archaeological compliance project conducted by Drayton Archaeology (DA) for a private landowner. In accordance with the State Environmental Policy Act (SEPA), DA conducted an initial archaeological assessment of the project area, resulting in the identification and recording of 45SN417, the Woodhaven Olcott Site. 45SN417 is a precontact village site that consists of extensive Paleoindian-period lithic materials and fire modified rock (FMR) located along a broad flat terrace of a former channel of the Pilchuck River in Snohomish County, WA. The collection was purchased by Mr. Baldwin of DA from the private landowner and was subsequently donated to the WWUAR. Thermal luminescence dated two items in the collection to 8700 BP and 7400 BP, respectively. The WWUAR has no information about the collection being treated with potentially hazardous substances.

Determinations

The WWUAR has determined that:

• The 12,556 sacred objects/objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Stillaguamish Tribe of Indians of Washington; Swinomish Indian Tribal Community; and the Tulalip Tribes of Washington.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the WWUAR must determine the most appropriate requestor prior to repatriation. Requests for joint repatriation of the cultural items are considered a single request and not competing requests. The WWUAR is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02701 Filed 2-10-26; 8:45 am]

BILLING CODE 4312-52-P